SECURITIES AND EXCHANGE COMMISSION

[Release No. IC-26583]

Notice of Applications for Deregistration Under Section 8(f) of the Investment Company Act of 1940

August 27, 2004.

The following is a notice of applications for deregistration under section 8(f) of the Investment Company Act of 1940 for the month of August 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on September 21, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Eaton Vance Insured Minnesota Municipal Bond Fund (Formerly Eaton Vance Insured Minnesota Municipal Bond Fund I)

[File No. 811-21223]

Eaton Vance Insured Arizona Municipal Bond Fund (Formerly Eaton Vance Insured Arizona Municipal Bond Fund I)

[File No. 811-21228]

Summary: Each applicant, a closed-end investment company, seeks an order declaring that it has ceased to be an investment company. Applicants have never made a public offering of their securities and do not propose to make a public offering or engage in business of any kind.

Filing Date: The applications were filed on August 10, 2004.

Applicants' Address: the Eaton Vance Building, 255 State St., Boston, MA 02109.

IQ Rising Interest Rate Fund Inc.

[File No. 811-21592]

Summary: Applicant, a closed-end investment company, seeks an order declaring that it has ceased to be an investment company. Applicant has never made a public offering of its securities and does not propose to make a public offering or engage in business of any kind.

Filing Date: The applicant was filed on August 19, 2004.

Applicant's Address: 800 Scudders Mill Rd., Plainsboro, NJ 08536.

Eaton Vance Limited Duration Income Opportunity Fund

[File No. 811-21393]

Eaton Vance Limited Duration Income Fund II

[File No. 811-21406]

Eaton Vance Tax-Advantaged Dividend Growth Fund

[File No. 811-21450]

Summary: Each applicant, a closed-end investment company, seeks an order declaring that it has ceased to be an investment company. Applicants have never made a public offering of their securities and do not propose to make a public offering or engage in business of any kind.

Filing Date: The applicants were filed on August 17, 2004.

Applicants' Address: The Eaton Vance Building, 255 State St., Boston, MA 02109.

J.P. Morgan Atlas Global Long/Short Equity Fund, L.L.C.

[File No. 811-21305]

Summary: Applicant, a closed-end investment company, seeks an order declaring that it has ceased to be an investment company. Applicant has never made a public offering of its securities and does not propose to make a public offering or engage in business of any kind.

Filing Dates: The application was filed on July 20, 2004, and amended on August 10, 2004.

Applicant's Address: 522 Fifth Ave., 10th Floor, New York, NY 10036.

Corporate Investment Trust Fund

[File No. 811-2321]

Prudential Unit Trust National Municipal Trust Discount Series

[File No. 811-2568]

Prudential Unit Trust

[File No. 811-3952]

Prudential Unit Trust Corporate High Yield Series

[File No. 811-5573]

Summary: Each applicant, a unit investment trust, seeks an order declaring that it has ceased to be an investment company. By September 3, 1991, August 3, 2000, March 22, 2002 and November 27, 1995, respectively, each applicant had made a final liquidating distribution to its unitholders, based on net asset value. Expenses incurred in connection with the liquidations were paid by JPMorgan Chase Bank, trustee for each applicant, on behalf of each applicant.

Filing Dates: The applications were filed on June 1, 2004, and amended on August 13, 2004.

Applicants' Address: Prudential Equity Group, LLC, 100 Mulberry St., Gateway Center Three, Newark, NJ 07102.

FBR Fund for Tax-Free Investors, Inc.

[File No. 811-3720]

Summary: Applicant seeks an order declaring that it has ceased to be an investment company. On February 27, 2004, two of applicant's series transferred their assets to corresponding series of The FBR Funds, based on net asset value. On March 29, 2004, applicant's remaining series made a liquidating distribution to its shareholders, based on net asset value. Expenses of $78,380 incurred in connection with the reorganization and liquidation were paid by FBR National Trust Company, applicant's administrator, and its affiliates.

Filing Dates: The application was filed on June 30, 2004, and amended on August 6, 2004.

Applicant's Address: 1001 Nineteenth St., N. Arlington, VA 22209.

Alpha Analytics Investment Trust

[File No. 811-9039]

Summary: Applicant seeks an order declaring that it has ceased to be an investment company. On October 29, 2003, applicant made a liquidating distribution to its shareholders, based on net asset value. Expenses of $1,650 incurred in connection with the liquidation were paid by Alpha Analytics Investment Group, LLC, applicant's investment adviser.

Filing Dates: The application was filed on April 7, 2004, and amended on July 27, 2004.

Applicant's Address: 1901 Avenue of the Stars, Suite 1100, Los Angeles, CA 90067.

AUSA Series Annuity Account B

[File No. 811-8880]

Summary: Applicant seeks an order abandoning the registration statement that was filed on July 5, 2001, by the applicant and declared effective by the Securities and Exchange Commission on February 8, 2002. The applicant has decided not to commence sales of the AUSA Series Annuity Account and therefore now seeks to de-register the fund.

Filing Date: The application was filed on August 27, 2004.

Applicant's Address: 4 Manhattanville Road, Purchase New York 10577.

For the Commission, by the Division of Investment Management, pursuant to delegated authority.
Margaret H. McFarland,
Deputy Secretary.

[FR Doc. 04-20006 Filed 9-1-04; 8:45 am]

BILLING CODE 8010-01-M